DEPARTMENT OF DEFENSE

Defense Acquisition Regulations System

Defense Federal Acquisition Regulation Supplement; Ownership of Offeror

AGENCY: Defense Acquisition Regulations System, Department of Defense (DoD).

ACTION: Notice of meeting.

SUMMARY: DoD is hosting a public meeting to establish an initial dialogue with industry and Government agencies about developing a method by which offerors, if owned or controlled by another business entity, can identify to DoD the Commercial and Government Entity (CAGE) code and legal name of that business entity.

DATES: Public Meeting: November 15, 2011, from 1 p.m. to 3 p.m. EST.

Submission of Comments: Comments on this topic should be submitted in writing to the address shown below on or before December 9, 2011.

ADDRESSES: Public Meeting: The public meeting will be held at General Services Administration (GSA), Central Office Auditorium, 1800 F Street, NW., Washington DC, 20405. The GSA Auditorium is located on the main floor of the building.

Submission of Comments: You may submit written comments, using any of the following methods:

○ Regulations.gov: http://www.regulations.gov. Submit comments via the Federal eRulemaking portal by selecting “Notice” under the heading “Select Document Type” and entering search terms from this notice under the heading “Enter Keyword or ID” and selecting “Search.” Select the link “Submit a Comment” that corresponds with this notice. Follow the instructions provided at the “Submit a Comment” screen. Please include your name, company name (if any), and “Ownership of Offeror” on your attached document.

○ E-mail: dfars@osd.mil. Include “Ownership of Offeror” in the subject line of the message.

○ Fax: 703-602-0350.

○ Mail: Defense Acquisition Regulations System, Attn: Mr. Julian Thrash, OUSD(AT&L)DPAP/DARS, Room 3B855, 3060 Defense Pentagon, Washington, DC 20301-3060.

Comments received generally will be posted without change to http://www.regulations.gov, including any personal information provided. To confirm receipt of your comment(s), please check http://www.regulations.gov, approximately two to three days after submission to verify posting (except allow 30 days for posting of comments submitted by mail).

FOR FURTHER INFORMATION CONTACT: Mr. Julian Thrash, 703-602-0310.

SUPPLEMENTARY INFORMATION: DoD will provide a brief overview of emerging policy issues potentially affecting the collection of this information. DoD solicits input from the public regarding methods to consistently, uniquely, and easily identify corporate ownership of DoD contractors in support of implementation of business tools that require identification of supplier relationships to facilitate better buying decisions. In order for these business tools to be useful, and to promote the procurement efficiencies required for better buying decisions, DoD requires the ability to understand the corporate structure and affiliations of its suppliers. DoD is seeking industry insight on “best practices” and how such a process may affect future offerors. In particular, DoD invites discussion at the public meeting and public comment on the following:

(1) Means of identifying whether or not a particular DoD contractor is owned or controlled by another business entity.

(2) Would it be meaningful, from the private sector perspective, to characterize an “immediate owner,” as the business entity, which has the most direct and proximate ownership or control of the offeror? If not, then please suggest an alternative characterization.

(3) Would it be meaningful, from the private sector perspective, to characterize the “highest-level owner” as a business entity, which owns or controls the one or more business entities that own or control the offeror? If not, then please suggest an alternative characterization.

(4) Would it be meaningful, from the private sector perspective, to characterize an “owner” as a business entity, other than the offeror that owns or controls the offeror, or that owns or controls other business entities that own or control the offeror? An owner could then be either an immediate owner or a highest-level owner. If not meaningful, then please suggest an alternative characterization.

(5) One potential approach is for the offeror to provide with its offer the immediate owner Commercial and Government Entity (CAGE) code along with the legal name, and the highest-level owner CAGE code along with the legal name (if a higher-level entity exists). If this process is considered burdensome, what are the potential ways to mitigate such burden?

(6) Are there additional factors that should be considered to accurately capture such a business environment? If so, please explain.

Registration: Individuals wishing to attend the public meeting should register by November 1, 2011, to ensure adequate room accommodations and to create an attendee list for secure entry to the GSA building for anyone who is not a Federal Government employee with a Government badge. Interested parties may register by at this Web site, http://www.acq.osd.mil/dpap/dars/ownership_of_offeror.html, by providing the following information:

(1) Company or organization name;

(2) Names and e-mail addresses of persons attending;

(3) Last four digits of social security number for each attendee (non-Federal employees only); and

(4) Identify presenter if desiring to speak (limited to a 10-minute presentation per company or organization).

Attendees are encouraged to arrive at least 30 minutes early to ensure they are processed through security in a timely fashion. Prior registrants will be given priority if room constraints require limits on attendance.

Special Accommodations: The public meeting location is physically accessible to persons with disabilities. Requests for sign language interpretation or other auxiliary aids should be directed to Mr. Julian E. Thrash, telephone 703-602-0310, at least 10 working days prior to the meeting date.

Presentations: For individuals who would like to present a short oral presentation not-to-exceed 10 minutes at the meeting, please advise when registering so appropriate arrangements can be made for scheduling purposes. If the presenter intends to share a handout to accompany an oral statement, please submit documents to dfars@osd.mil for posting no later than November 8, 2011, so that other attendees may download prior to the meeting. When submitting briefing information, provide presenter's name, organization affiliation, telephone number, and e-mail address on the cover page.

Correspondence and Comments: Please cite “Public Meeting, Ownership of Offeror” in all correspondence related to this public meeting. The submitted presentations will be the only record of the public meeting. To have a presentation considered as a public comment, the presentation, or pertinent excerpts, must be submitted separately as a written comment as instructed in the above paragraph titled, “Submission of Comments.” Government procurement.

Mary Overstreet,
Editor, Defense Acquisition Regulations System.

[FR Doc. 2011-27070 Filed 10-18-11; 8:45 am]

BILLING CODE 5001-06-P